DEPARTMENT OF THE INTERIOR

National Park Service

[NPS-WASO-NRNHL-15025; PPWOCRADI0, PCU00RP14.R50000]

National Register of Historic Places; Notification of Pending Nominations and Related Actions

Nominations for the following properties being considered for listing or related actions in the National Register were received by the National Park Service before February 8, 2014. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th Floor, Washington, DC 20005; or by fax, 202-371-6447. Written or faxed comments should be submitted by March 14, 2014. Before including your address, phone number, email address, or other personal identifying information in your comment, you should be aware that your entire comment—including your personal identifying information—may be made publicly available at any time. While you can ask us in your comment to withhold your personal identifying information from public review, we cannot guarantee that we will be able to do so.

Dated: February 11, 2014.
J. Paul Loether,
Chief, National Register of Historic Places/National Historic Landmarks Program.

INDIANA

Boone County

Oak Hill Cemetery, 935 E. Washington St., Lebanon, 14000068

De Kalb County

Auburn Community Mausoleum, (Early Community Mausoleum Movement in Indiana MPS) 1431 Center St., Auburn, 14000069

Butler Community Mausoleum, (Early Community Mausoleum Movement in Indiana MPS) Cty. Rd. 28 E., Butler, 14000070

Garrett Community Mausoleum, (Early Community Mausoleum Movement in Indiana MPS) S. Hamsher St., Garrett, 14000071

Waterloo Community Mausoleum, (Early Community Mausoleum Movement in Indiana MPS) N. Center St., Waterloo, 14000072

Lake County

Eskilson Historic District, (Historic Residential Suburbs in the United States, 1830-1960 MPS) Roughly bounded by W. 3rd Ave. & alleys between Garfield & Hayes Sts., W. 4th Pl. & W. 5th Ave, Cleveland & McKinley Sts., Gary, 14000073

Material Service, Address Restricted, Whiting, 14000074

Monroe County

Koontz, John F. and Malissa, House, 7401 S. Mount Zion Rd., Bloomington, 14000075

Millen—Chase—McCalla House, 403 N. Walnut St., Bloomington, 14000076

St. Joseph County

North Liberty Historic District, IN 23 between Center & Harrison Sts., North Liberty, 14000077

MONTANA

Carbon County

Yodeler Motel, 601 S. Broadway Ave., Red Lodge, 14000078

Fallon County

Cottonwood Creek Bridge, (Montana's Historic Timber Stringer Bridges, 1915-1960 MPS) Mi. 2.2 Ismay Rd., Ismay, 14000079

Lewis and Clark County

Haight—Bridgwater House, 502 Peosta, Helena, 14000080

NEW HAMPSHIRE

Strafford County

Cocheco Mills, Main & Washington Sts., Dover, 14000081

OHIO

Montgomery County

Linden Community and Recreation Center, 334 Norwood Ave., Dayton, 14000082

TENNESSEE

Bradley County

Card, C.C., Auto Company Building, 125 Inman & 162 1st Sts., Cleveland, 14000083

Davidson County

Tennessee Supreme Court Building, 401 7th Ave., N., Nashville, 14000084

Knox County

Mead Marble Quarry, (Marble Industry of East Tennessee, ca. 1838-1963 MPS) 2915 Island Home Ave., Knoxville, 14000085

Ross Marble Quarry, (Marble Industry of East Tennessee, ca. 1838-1963 MPS) 2915 Island Home Ave., Knoxville, 14000086

Sullivan County

Blountville Historic District (Boundary Increase, Decrease), Roughly bounded by Blountville Cemetery, Great Stage & Massengill Rds., Blountville Bypass., Blountville, 14000087

Martin—Dobyns House, 1434 Watauga St., Kingsport, 14000088

A request for removal has been made for the following resources:

INDIANA

Delaware County

Valentine, John, House, 1101 Riverside Ave., Muncie, 83000026

Perry County

Hall of Tell City Lodge, No. 206, IOOF, 701 Main St., Tell City, 92001654

[FR Doc. 2014-04238 Filed 2-26-14; 8:45 am]

BILLING CODE 4312-51-P